DEPARTMENT OF HEALTH AND HUMAN SERVICES

Centers for Disease Control and Prevention

[60Day-09-09BY]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960, send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Healthy Housing Lead Poisoning Surveillance System (HHLPSS)—New—National Center for Environmental Health (NCEH) and Agency for Toxic Substances and Disease Registry (ATSDR)/Centers for Disease Control and Prevention (CDC).

Background and Brief Description

The Healthy Housing Lead Poisoning Surveillance System (HHLPSS) builds upon previous efforts by the National Blood Lead Surveillance System (NBLSS) to characterize the home environment in terms of not only lead poisoning risk factors, but also other home-based risk factors. While the earlier NBLSS was focused on homes of children less than 6 years old, the new HHLPSS will enable flexibility to evaluate all homes, regardless of the presence of children < age 6 years. The overarching goal of this system is to establish Healthy Housing Surveillance Systems at the state and national levels. Currently, 40 state and local Childhood Lead Poisoning Prevention Programs (CLPPP) report information (e.g., presence of lead paint, age of housing, and type of housing) to the NBLSS. The addition of a new panel of housing questions would help to provide a more comprehensive picture of housing stock in the United States and potentially modifiable risk factors.

The objectives for developing this system are two-fold. First, the program would like to use surveillance data to estimate the extent of housing-related injuries and asthma. This is important because it will allow the program to systematically track the management and follow-up of those residents with these health outcomes.

The next objective for the development of this system is to examine potential housing-related risk factors. Childhood lead poisoning is just one of many adverse health conditions that are related to common housing deficiencies. Multiple hazards in housing, e.g., mold, vermin, radon and the lack of safety devices, continue to adversely affect the health of residents. It is in the interest of public health to expand from a single focus on lead poisoning prevention to a coordinated, comprehensive, and systematic approach to eliminating multiple housing-related health hazards. The current NBLSS system requires reporting of child blood lead levels and the new HLPSS will continue this effort.

There is no cost to respondents other than their time.

Estimated Annualized Burden Table
Respondents | Number of respondents | Number of responses per respondent | Average burden per response (in hours) | Total burden hours
State and Local Health Departments for Child Surveillance | 40 | 4 | 4 | 640
Total |  |  |  | 640

Dated: June 18, 2009.
Maryam I. Daneshvar,
Acting Reports Clearance Officer, Centers for Disease Control and Prevention.

[FR Doc. E9-15254 Filed 6-26-09; 8:45 am]

BILLING CODE P